DEPARTMENT OF COMMERCE

National Oceanic and Atmospheric Administration

15 CFR Part 997

[Docket No. 220228-0064]

RIN 0648-BK83

U.S. Integrated Ocean Observing System Office, Legislation; Name Change

AGENCY: U.S. Integrated Ocean Observing System (IOOS), National Ocean Service (NOS), National Oceanic and Atmospheric Administration (NOAA), Department of Commerce (DOC).

ACTION: Final rule, technical amendment.

SUMMARY: The U.S. Integrated Ocean Observing System Office, led by the National Oceanic and Atmospheric Administration (NOAA), issues this final rule to change the name for “Regional Information Coordination Entities (RICEs)” to “Regional Coastal Observing Systems.” This rule has no substantive effect.

DATES: These regulations are effective on March 24, 2022.

FOR FURTHER INFORMATION CONTACT: Oriana Villar at 240-533-9466 or Oriana.Villar@noaa.gov, or at U.S. IOOS Office, 1315 East West Highway, Suite 300, Silver Spring, MD 20910.

SUPPLEMENTARY INFORMATION: The Integrated Coastal and Ocean Observation System (ICOOS) Act of 2009 (Pub. L. 111-11) (ICOOS Act or Act, codified at 33 U.S.C. 3601-3610) and the Coordinated Ocean Observation and Research Act of 2020 (Pub. L. 116-271, Title I) (COORA, amending 33 U.S.C. 3601-3610), directs the President to establish a National Integrated Coastal and Ocean Observation System (System). The System must “include in situ, remote, and other coastal and ocean observation and modeling capabilities, technologies, data management, communication systems, and product development systems and [be] designed to address regional and national needs for ocean and coastal information, to gather specific data on key coastal, ocean, and Great Lakes variables, and to ensure timely and sustained dissemination and availability of these data.” 33 U.S.C. 3601(1).

The ICOOS Act and COORA direct the Interagency Ocean Observation Committee (IOOC) to develop contract certification standards and compliance procedures for integrating regional coastal observing systems into the System. 33 U.S.C. 3603(c)(2)(B)(v). The COORA Act, in amending the ICOOS Act, replaces the term Regional Information Coordination Entity (RICE) with the term Regional Coastal Observing System (RCOS). The term “`regional coastal observing system' means an organizational body that is certified or established by contract or memorandum by the lead Federal agency designated in section 12304(c)(3) and coordinates Federal, State, local, tribal, and private interests at a regional level with the responsibility of engaging the private and public sectors in designing, operating, and improving regional coastal observing systems in order to ensure the provision of data and information that meet the needs of user groups from the respective regions.”

NOAA promulgated regulations in 2014 to develop certification criteria and procedures for integrating RICEs into the system. (June 5, 2014; 79 FR 32449). These regulations are found at 15 CFR part 997.

By this final rule, NOAA is officially changing the name of the Regional Information Coordination Entity (RICE) to reflect the new name, Regional Coastal Observing System (RCOS), as defined in the COORA. This change is necessary to implement the new name established by the COORA in the implementing regulations. This name change has no substantive impact.

By this final rule, NOAA is also updating its mailing address in 997.11(b) and changing the name of the “U.S. IOOS Program Office” to the “U.S. IOOS Office” in 997.20(b), 997.23(f)(5), 997.23(f)(5), and 997.24(a). These changes also do not have substantive impacts.

I. Classifications

A. Administrative Procedures Act

This rule pertains solely to the renaming of “Regional Information Coordination Entities (RICEs)” to “Regional Coastal Observing Systems (RCOSs)” in an existing rule necessitated by the Coordinated Ocean Observation and Research Act of 2020 (Pub. L. 116-271, Title I). NOAA also is updating its mailing address and updating the name of the IOOS Office. It makes no changes to the substantive legal rights, obligations, or interests of affected parties. This rule therefore is a “rule of agency organization, procedure or practice” and is therefore exempt from the notice-and-comment requirements of 5 U.S.C. 553 under 5 U.S.C. 553(b)(A). Nor is a 30-day delay in effective date required under 5 U.S.C. 553(d) due to the non-substantive nature of this technical amendment.

B. Executive Order 12866: Regulatory Impact

This rule has been determined to be not significant within the meaning of Executive Order 12866.

C. Paperwork Reduction Act

This rule does not contain any new or revisions to the existing information collection requirement that was approved by OMB (OMB Control Number 0648-0672, Application to be Certified as a Regional Information Coordination Entity) under the Paperwork Reduction Act (PRA), 44 U.S.C. 3501 et seq. Notwithstanding any other provision of the law, no person is required to respond to, nor shall any person be subject to a penalty for failure to comply with, a collection of information subject to the requirements of the PRA, unless that collection of information displays a currently valid OMB Control Number.

D. Regulatory Flexibility Act

This regulation is exempt from the notice and comment provisions of the Administrative Procedures Act (APA), 5 U.S.C. 553. Therefore, the requirements of the Regulatory Flexibility Act do not apply, 5 U.S.C. 603(a). No other rule requires a regulatory flexibility analysis and none has been prepared.

List of Subjects in 15 CFR Part 997

Science and technology.

Nicole R. LeBoeuf,
Assistant Administrator, for Ocean Services and Coastal Zone Management, National Oceanic and Atmospheric Administration.

Accordingly, for the reasons set forth above, 15 CFR part 997 is amended as follows:

PART 997— REGIONAL COASTAL OBSERVING SYSTEM

1. The authority citation for part 997 is revised to read as follows:

Authority: 33 U.S.C. 3602-3603.

2. In part 997:

a. Revise the part heading to read as set forth above.

b. Remove the text “Regional Information Coordination Entity (RICE)” wherever it appears and add in its place the text “Regional Coastal Observing System (RCOS)”;

c. Remove the text “a RICE” wherever it appears and add in its place the text “an RCOS”;

d. Remove the text “RICE” wherever it appears and add in its place the text “RCOS”; and

e. Remove the text “U.S. IOOS Program Office” wherever it appears and add in its place the text “U.S. IOOS Office”.

3. In § 997.11, revise paragraph (b) to read as follows:

§ 997.11 Application process.

* * * * *

(b) Submission shall be made to NOAA at the following address, or to such other address as may be indicated in the future: Director U.S. IOOS Office, NOAA, 1315 East West Hwy., Suite 3000, Silver Spring, MD 20910. Submissions may also be made online at http://www.ioos.noaa.gov/certification.

[FR Doc. 2022-06196 Filed 3-23-22; 8:45 am]

BILLING CODE 3510-JE-P